DEPARTMENT OF TRANSPORTATION

Federal Aviation Administration

14 CFR Part 39

[Docket No. FAA-2013-0424; Directorate Identifier 2013-NM-014-AD; Amendment 39-17564; AD 2013-16-26]

RIN 2120-AA64

Airworthiness Directives; Airbus Airplanes

AGENCY: Federal Aviation Administration (FAA), Department of Transportation (DOT).

ACTION: Final rule.

SUMMARY: We are adopting a new airworthiness directive (AD) for all Airbus Model A330-200 Freighter series airplanes; Model A330-200 and -300 series airplanes, and Model A340-200 and -300 series airplanes. This AD was prompted by reports of cracked adjacent frame forks of a forward cargo door. This AD requires repetitive detailed inspections for cracks and sheared, loose, or missing rivets of the forward cargo door and, for certain airplanes, of the aft cargo door, and repair if necessary. We are issuing this AD to detect and correct cracked or ruptured cargo door frames, which could result in reduced structural integrity of the forward or aft cargo door.

DATES: This AD becomes effective October 4, 2013.

The Director of the Federal Register approved the incorporation by reference of certain publications listed in this AD as of October 4, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Discussion

We issued a notice of proposed rulemaking (NPRM) to amend 14 CFR part 39 to include an AD that would apply to the specified products. The NPRM was published in the Federal Register on May 20, 2013 (78 FR 29261). The NPRM proposed to correct an unsafe condition for the specified products. The European Aviation Safety Agency (EASA), which is the Technical Agent for the Member States of the European Community, has issued EASA Airworthiness Directive 2012-0274, dated December 21, 2012 (referred to after this as the Mandatory Continuing Airworthiness Information, or “the MCAI”), to correct an unsafe condition for the specified products. The MCAI states:

One A330 operator recently reported a case where two adjacent frame (FR) forks of a forward cargo door were found cracked. FR20B was found cracked through, FR21 was found cracked half through. At the time of the findings, the affected aeroplane had accumulated around 21 000 flight cycles (FC) and it had already been inspected in accordance with EASA AD 2011-0007R1 [(http://ad.easa.europa.eu/blob/easa_ad_2011_0007_R1.pdf/AD_2011-0007R1_1)] [which corresponds to FAA AD 2012-12-12, Amendment 39-17092 (77 FR 37797, June 25, 2012)] and ALI [airworthiness limitation instructions] Task 523106-01-1. However, during those inspections, the forward cargo door handle access panel is not required to be removed, which explains why the cracks at these two internal frame locations were not detected.

After further analysis, it was determined that, in case of cracked or ruptured (forward or aft) cargo door frame, the loads will be transferred to the remaining structural elements. However, the second load path is able to sustain the loads for a limited number of flight cycles only.

This condition, if not detected and corrected, could lead to rupture of two vertical frames, resulting in reduced structural integrity of the forward or aft cargo door.

To address this condition, Airbus issued four separate Alert Operators Transmissions (AOT), giving instructions for repetitive inspections of the affected areas.

For the reasons described above, this [EASA] AD requires repetitive detailed visual inspections of aft cargo door at FR60 and FR60A [for certain airplanes] and forward cargo door at FR21 and FR20B [for all airplanes], where the cargo door handle access panels are located, as follow:

—Outer skin rivets for sheared, loose or missing rivets at frame fork ends,

—whole inner forks for cracks and for sheared, loose or missing rivets at frame web and flange after removal of handle access panels, and

the accomplishment of the applicable corrective actions [which include repair, in accordance with a method approved by the Manager, International Branch, ANM-116, Transport Airplane Directorate, FAA.]

Note: Accomplishment of the above inspections does not cancel accomplishment of the inspections as required by EASA [AD] 2011-0007R1, nor accomplishment of those in accordance with ALI Task 523106-01-1.

You may obtain further information by examining the MCAI in the AD docket.

Comments

We gave the public the opportunity to participate in developing this AD. We received no comments on the NPRM (78 FR 29261, May 20, 2013) or on the determination of the cost to the public.

Conclusion

We reviewed the available data and determined that air safety and the public interest require adopting this AD as proposed-except for minor editorial changes. We have determined that these minor changes:

• Are consistent with the intent that was proposed in the NPRM (78 FR 29261, May 20, 2013) for correcting the unsafe condition; and

• Do not add any additional burden upon the public than was already proposed in the NPRM (78 FR 29261, May 20, 2013).

Costs of Compliance

We estimate that this AD affects 66 airplanes of U.S. registry. We also estimate that it takes 1 work-hour per product to comply with the basic requirements of this AD. The average labor rate is $85 per work-hour. Based on these figures, we estimate the cost on U.S. operators to be $5,610, or $85 per product.

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains this AD, the MCAI, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-16-26 Airbus: Amendment 39-17564. Docket No. FAA-2013-0424; Directorate Identifier 2013-NM-014-AD.

(a) Effective Date

This airworthiness directive (AD) becomes effective October 4, 2013.

(b) Affected ADs

None.

(c) Applicability

This AD applies to Airbus Model A330-201, -202, -203, -223, -223F, -243, -243F, -301, -302, -303, -321, -322, -323, -341, -342, and -343 airplanes; and Model A340-211, -212, -213, -311, -312, and -313 airplanes; certificated in any category; all manufacturer serial numbers (MSNs).

(d) Subject

Air Transport Association (ATA) of America Code 52, Doors.

(e) Reason

This AD was prompted by reports of cracked adjacent frame forks of a forward cargo door. We are issuing this AD to detect and correct cracked or ruptured cargo door frames, which could result in reduced structural integrity of the forward or aft cargo door.

(f) Compliance

You are responsible for having the actions required by this AD performed within the compliance times specified, unless the actions have already been done.

(g) Inspections for Certain Airplanes

For Model A330-200, -200 Freighter, and -300 airplanes up to MSN 0162 inclusive, except those on which Airbus Service Bulletin A330-52-3044 has been embodied in service; and for Model A340-200 and -300 airplanes up to MSN 0164 inclusive, except those on which Airbus Service Bulletin A340-52-4054 has been embodied in service: Before the accumulation of 15,800 total flight cycles since the airplane's first flight or within 100 flight cycles after the effective date of this AD, whichever occurs later, do a detailed inspection of the outer skin rivets at the frame fork end of frame (FR)60 and FR60A of the aft cargo door for sheared, loose, or missing rivets; and do a detailed inspection of the whole FR60 and FR60A forks for cracking and for sheared, loose, or missing rivets at the frame web and flanges; in accordance with Airbus Alert Operator Transmission (AOT) A330-A52L001-12, dated December 3, 2012; or Airbus AOT A340-A52L002-12, dated December 3, 2012; as applicable. Repeat the inspections thereafter at intervals not to exceed 400 flight cycles.

(h) Inspections for All Airplanes

Within the applicable compliance time specified in paragraph (h)(1) or (h)(2) of this AD, do a detailed inspection of outer skin rivets at the frame fork end of FR21 and FR20B of the forward cargo door for sheared, loose, or missing rivets; and do a detailed inspection of the whole FR21 and FR20B forks for cracks and for sheared, loose, or missing rivets at the frame web and flanges; in accordance with Airbus AOT A330-A52L003-12, dated December 3, 2012; or Airbus AOT A340-A52L004-12, dated December 3, 2012; as applicable. Repeat this inspection thereafter at intervals not to exceed 800 flight cycles.

(1) For airplanes having less than 18,400 total flight cycles since the airplane's first flight as of the effective date of this AD: Before the accumulation of 10,600 total flight cycles since the airplane's first flight, or within 100 flight cycles after the effective date of this AD, whichever occurs later.

(2) For airplanes having 18,400 total flight cycles or more since the airplane's first flight as of the effective date of this AD: Within 50 flight cycles after the effective date of this AD.

(i) Repair

If any cracking, or sheared, loose, or missing rivet is found during any inspection required by this AD, before further flight, repair using a method approved by either the Manager, International Branch, ANM-116, Transport Airplane Directorate, FAA; or the European Aviation Safety Agency (EASA) (or its delegated agent).

(j) Non-Terminating Action

Doing the repair required by paragraph (i) of this AD is not terminating action for the repetitive inspections required by paragraphs (g) and (h) of this AD for that cargo door, unless the repair instruction specifically states it is terminating action.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

Refer to Mandatory Continuing Airworthiness Information EASA Airworthiness Directive 2012-0274, dated December 21, 2012, for related information, which can be found in the AD docket on the Internet at http://www.regulations.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Alert Operator Transmission A330-A52L001-12, dated December 3, 2012. The first page of this document contains the document number and date; no other pages contain this information.

(ii) Airbus Alert Operator Transmission A330-A52L003-12, dated December 3, 2012. The first page of this document contains the document number and date; no other pages contain this information.

(iii) Airbus Alert Operator Transmission A340-A52L002-12, dated December 3, 2012. The first page of this document contains the document number and date; no other pages contain this information.

(iv) Airbus Alert Operator Transmission A340-A52L004-12, dated December 3, 2012. The first page of this document contains the document number and date; no other pages contain this information.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 9, 2013.
Jeffrey E. Duven,
Acting Manager, Transport Airplane Directorate, Aircraft Certification Service.

[FR Doc. 2013-19923 Filed 8-29-13; 8:45 am]

BILLING CODE 4910-13-P